DEPARTMENT OF JUSTICE

Office of Community Oriented Policing Services

FY 2003 Community Policing Discretionary Grants

AGENCY: Office of Community Oriented Policing Services, Department of Justice.

ACTION: Notice of availability.

SUMMARY: The Department of Justice Office of Community Oriented Policing Services (COPS) announces the availability of the COPS in Schools grant program, which will assist law enforcement agencies in hiring new, additional School Resource Officers (SROs) to engage in community policing in and around primary and secondary schools. This program provides an incentive for law enforcement agencies to build collaborative partnerships with the school community and to use community policing efforts to combat school violence. The School Resource Officer must devote at least 75% of their time to work in and around primary and secondary schools, in addition to the time that your agency was devoting in the absence of the COPS in Schools grant.

The COPS in Schools program provides a maximum Federal contribution of up to $125,000 per officer position over the three-year grant period, with any remaining costs to be paid with local funds. Officers paid with COPS in Schools funding can only be hired on or after the grant award start date. In addition, all jurisdictions that apply must demonstrate that they have primary law enforcement authority over the school(s) identified in their application and demonstrate their inability to implement this project without Federal assistance.

DATES: There will be one application deadline for the COPS in Schools (CIS) program in 2003: June 13, 2003. All applications must be postmarked on or before the final deadline date of June 13, 2003, to be considered for funding. All grant awards are subject to the availability of funding. Previous editions of the COPS in Schools application developed prior to March 20, 2003, will not be accepted.

ADDRESSES: To obtain a copy of the CIS 2003 Application Kit please call the U.S. Department of Justice Response Center at 1.800.421.6770 or visit the COPS Web site at http://www.cops.usdoj.gov.

FOR FURTHER INFORMATION CONTACT: Please contact the U.S. Department of Justice Response Center at 1.800.421.6770 or your COPS Grant Program Specialist. Additional information on the COPS in Schools program and the COPS Office in general is also available on the COPS Web site at: http://www.cops.usdoj.gov.

Overview: The Violent Crime Control and Law Enforcement Act of 1994 (Pub. L. 103-322) authorizes the Department of Justice to make grants to increase deployment of law enforcement officers to increase or enhance community policing in this nation. Many communities are discovering that trained, sworn law enforcement officers assigned to schools play an integral part in the development and/or enhancement of a comprehensive school safety plan. The presence of these officers provides schools with a direct link to local law enforcement agencies. School Resource Officers (SROs) may serve in a variety of roles including, but not limited to, that of a law enforcement officer/safety specialist, law-related educator, and problem solver/community liaison. These officers may teach programs such as crime prevention, substance abuse prevention, and gang resistance as well as monitor and assist troubled students through mentoring programs. The School Resource Officer(s) may also identify physical changes in the environment that may reduce crime in and around the schools, as well as assist in developing school policies which address criminal activity and school safety.

COPS in Schools funding must be used to hire new, additional School Resource Officers, over and above the number of sworn officers that your agency would fund with State or local funds in the absence of the grant (including other School Resource Officers). Your agency may not reduce its State, locally-funded or Bureau of Indian Affairs funded level of sworn officers (including other School Resource Officers or other sworn officers assigned to the schools) as a result of applying for or receiving COPS in Schools grant funding. For example, agencies currently employing one locally-funded School Resource Officer (or any other officer assigned to the school) that are awarded a School Resource Officer under the COPS in Schools program should thereafter employ two School Resource Officers (one locally-funded and one COPS-funded). COPS in Schools funding may be used to rehire sworn officers previously employed by your agency who have been laid off for financial reasons unrelated to the availability of the COPS in Schools grant, but your agency must obtain prior written approval from the COPS Office.

At the time of application, all applicants must agree to plan for the retention of each COPS-funded COPS in Schools position awarded at the conclusion of federal funding for at least one full local budget cycle with local, state or other non-COPS funding. The application must also include a Memorandum of Understanding (MOU), signed by the law enforcement executive and the appropriate school official(s), to document the roles and responsibilities to be undertaken by the law enforcement agency and the educational school partner(s) through this collaborative effort. The application must also include a Narrative Addendum to document that the School Resource Officer(s) will be assigned to work in and around primary or secondary schools and provide supporting documentation in the following areas: problem identification and justification, community policing strategies to be used by the officers, quality and level of commitment to the effort, and the link to community policing.

All agencies receiving awards through the COPS in Schools program are required to send the officers(s) deployed into the School Resource Officer position(s) as a result of this grant, and one individual designated as the School Representative under the grant program, to attend one COPS in Schools Training. The COPS Office will reimburse grantees for training, per diem, travel, and lodging costs for attendance of required participants up to a maximum of $1,200 per person attending. Should your agency receive a COPS in Schools grant, your agency will receive additional training information following notification of the grant award. The COPS in Schools training requirement must be completed prior to the end of your 36 months of grant funding for officer positions.

The Catalog of Federal Domestic Assistance (CFDA) reference for this program is 16.710.
Dated: April 10, 2003.
Carl Peed,
Director, Office of Community Oriented Policing Services.

[FR Doc. 03-9969 Filed 4-22-03; 8:45 am]

BILLING CODE 4410-AT-M